DEPARTMENT OF AGRICULTURE

Agricultural Research Service

National Agricultural Library; Notice of Intent To Seek Approval To Collect Information

AGENCY: USDA, Agricultural Research Service, National Agricultural Library.

ACTION: Notice and request for comments.

SUMMARY: In accordance with the Paperwork Reduction Act of 1995 (Pub. L. 104-13) and Office of Management and Budget (OMB) regulations at 5 CFR part 1320 (60 FR 44978, August 29, 1995), this notice announces the National Agricultural Library's intent to request approval for new information collection relating to a nutrition education material targeting low-income persons. This voluntary form gives Food Stamp nutrition education providers the opportunity to provide valuable feedback on this resource.

DATES: Comments on this notice must be received by February 22, 2005 to be assured of consideration.

ADDRESSES: Address all comments concerning this notice to Shannon Fries, Technical Information Specialist, Food and Nutrition Information Center, National Agricultural Library, 10301 Baltimore Avenue, Beltsville, MD, 20705-2351, telephone (301) 504-5368 or fax (301) 504-6409. Submit electronic comments to sfries@nal.usda.gov

SUPPLEMENTARY INFORMATION: Title: Food Stamp Nutrition Connection Recipe Finder Pilot Test Form.

OMB Number: PRA#.

Expiration Date: Three years from date of approval.

Type of Request: New data collection from Food Stamp nutrition education providers.

Abstract: The National Agricultural Library's Food Stamp Nutrition Connection (FSNC) http://www.nal.usda.gov/foodstamp/ resource system has developed an on-line recipe database, the Recipe Finder, as an added feature to the FSNC Web site to be launched in the Fiscal Year 2005. The target audience this project is intended for, Food Stamp Program nutrition educators, are located all across the Nation, making it very difficult and costly to evaluate the tool in a face to face setting. In order to use an evaluation tool that is cost-effective while reaching numerous volunteers in our target audience, we propose to test the usability of this on-line feature with an easy to use, on-line testing form. Data collected using this form will help determine a person's eligibility to test the usability of this tool.

The proposed voluntary “Recipe Finder Pilot Test Form” would allow Food Stamp Program nutrition education providers and USDA Food and Nutrition Service staff the opportunity to practice using this new on-line tool and provide valuable feedback on the usability of this new feature to the Web site. Data collected using this form will help FSNC make revisions and improvements to develop a dynamic product that meets the needs of the target audience. The form will collect data that will verify the person is in our target audience. The testing will be conducted over a period of time (approximately six months) and will not require long-term data collection.

Estimate of Burden: Public reporting burden for this collection of information is estimated to average 30 minutes per respondent.

Respondents: Food Stamp nutrition education providers.

Estimated Number of Respondents: 75 per year.

Estimated Total Annual Burden on Respondents: 37.50 hrs.

Comments

Comments are invited on (a) whether the proposed collection of information is necessary for the proper performance for the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: December 1, 2004.
Edward B. Knipling,
Administrator, Agricultural Research Service.

[FR Doc. 04-27600 Filed 12-16-04; 8:45 am]

BILLING CODE 3410-03-P